FEDERAL COMMUNICATIONS COMMISSION

47 CFR Part 64

[CG Docket Nos. 10-51 and 02-123; DA 17-76]

Structure and Practices of the Video Relay Services Program

AGENCY: Federal Communications Commission.

ACTION: Proposed rule.

SUMMARY: In this document, the Commission's Consumer and Governmental Affairs Bureau (Bureau or CGB) seeks comment on the scope of application of the technical standard for user equipment and software used with video relay service (VRS) and the extent to which such a rule is necessary and appropriate for functionally equivalent communication.

DATES: Comments are due June 12, 2017. Reply Comments are due July 11, 2017.

ADDRESSES: You may submit comments, identified by CG Docket Nos. 10-51 and 03-123, by any of the following methods:

• Electronic Filers: Comments may be filed electronically using the Internet by accessing the Commission's Electronic Comment Filing System (ECFS), through the Commission's Web site http://apps.fcc.gov/ecfs/. Filers should follow the instructions provided on the Web site for submitting comments. For ECFS filers, in completing the transmittal screen, filers should include their full name, U.S. Postal service mailing address, and CG Docket Nos. 10-51 and 03-123.

• Paper Filers: Parties who choose to file by paper must file an original and one copy of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission.

For detailed instructions for submitting comments and additional information on the rulemaking process, see the SUPPLEMENTARY INFORMATION section of this document.

FOR FURTHER INFORMATION CONTACT: Bob Aldrich, Consumer and Governmental Affairs Bureau (202) 418-0996, email Robert.Aldrich@fcc.gov, or Eliot Greenwald, Consumer and Governmental Affairs Bureau, (202) 418-2235, email Eliot.Greenwald@fcc.gov.

SUPPLEMENTARY INFORMATION: Pursuant to 47 CFR 1.415, 1.419, interested parties may file comments on or before the dates indicated in the DATES section. Comments may be filed using the Commission's ECFS. See Electronic Filing of Documents in Rulemaking Proceedings, 63 FR 24121 (1998).

• All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

U.S. Postal Service first-class, Express, and Priority mail must be addressed to 445 12th Street SW., Washington, DC 20554.

This is a summary of document DA 17-76, Structure and Practices of the Video Relay Service Program; Telecommunications Relay Services and Speech-to-Speech Services for Individuals with Hearing and Speech Disabilities, Further Notice of Proposed Rulemaking, document DA 17-76, adopted on January 17, 2017 and released on January 17, 2017, in CG Docket Nos. 10-51 and 03-123. The Report and Order, DA 17-76, is published elsewhere in this issue. The full text of document DA 17-76 will be available for public inspection and copying via ECFS, and during regular business hours at the FCC Reference Information Center, Portals II, 445 12th Street SW., Room CY-A257, Washington, DC 20554. This proceeding shall be treated as a “permit-but-disclose” proceeding in accordance with the Commission's ex parte rules. 47 CFR 1.1200 et seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with 47 CFR 1.1206(b). In proceedings governed by 47 CFR 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

To request materials in accessible formats for people with disabilities (Braille, large print, electronic files, audio format), send an email to fcc504@fcc.gov or call the Consumer and Governmental Affairs Bureau at (202) 418-0530 (voice), (844) 432-2272 (videophone), or (202) 418-0432 (TTY).

Initial Paperwork Reduction Act of 1995 Analysis

Document DA 17-76 does not contain proposed information collection(s) subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

Synopsis

1. The Commission's TRS interoperability and portability rules are intended, among other things, to allow VRS users to make and receive calls through any VRS provider, and to choose a different default provider, without changing the VRS access technology they use to place calls. The Relay User Equipment (RUE) Profile addresses this problem by specifying a basic interface that is intended to enable a user to use the same equipment and software with any default provider without experiencing any inconvenience or disruption of basic communications functions.

2. In document DA 17-76, the Bureau pursuant to authority delegated by the Commission in Structure and Practices of the Video Relay Service Program, et. al., Report and Order, published at 78 FR 40582, July 5, 2013, seeks additional comment on the extent to which adoption of a rule applying the RUE Profile to provider-distributed VRS user equipment and software is necessary and appropriate for functionally equivalent communication.

3. First, the Bureau seeks additional comment on the user experience with provider-supplied user equipment and software. To what extent can users currently use the features and functions of provider-supplied equipment and software when making and receiving calls through other providers, or after switching to another default provider? To the extent that user equipment and software supplied by one provider performs less effectively with other providers, which functions are most problematic? Do the answers to these questions vary depending on the specific user equipment and software used by a consumer, and if so, how? How feasible is it currently for third parties, including open source and academic institutions, to innovate in providing new relay user equipment or to provide relay user equipment tailored to specific user groups or application scenarios, such as customer service or government call centers or public safety answering points (PSAPs)?

4. Second, the Bureau seeks comment on the appropriate scope of application of the RUE Profile. There are a number of possible approaches. One possible approach could be to require RUE compliance for all user equipment and software, including equipment and software provided prior to the designated compliance deadline. As an alternative, to avoid imposing retrofitting costs on VRS providers, the Commission could require RUE compliance only for new user equipment and for new versions of user software. Under a third, more limited alternative, the Commission could require VRS providers to make RUE-Profile-compliant user equipment or software available to those users affirmatively requesting such equipment or software, as well as to provide information on their Web sites indicating how to obtain such user equipment and software. Which operating system platforms should be supported under this alternative? Under a fourth alternative, the Commission could make no further changes to its VRS interoperability and portability requirements. The Bureau seeks comments on the relative costs and benefits of these alternatives. In this regard, CGB invites commenters to submit additional specific cost information quantifying the costs of the three alternatives outlined above. The Bureau also seeks comment on the providers' claim that “forcing provider endpoints to adhere to the RUE Profile would require that providers remove any innovative or useful features of their endpoints that are not specified in the RUE Profile and subject their networks to lower security than they employ today.” What specific aspects of the RUE Profile would require removal of innovative or useful features, and what kinds of innovative or useful features would need to be removed? What specific aspects of the RUE Profile would subject networks to lower security?

Initial Regulatory Flexibility Analysis

5. As required by the Regulatory Flexibility Act, as amended (RFA), the Bureau has prepared this Initial Regulatory Flexibility Analysis (IRFA) of the possible significant economic impact on a substantial number of small entities by the policies and rules proposed document DA 17-76. Written public comments are requested on this IRFA. Comments must be identified as responses to the IRFA and must be filed by the deadlines for comments specified in the DATES section. The Commission will send a copy of document DA 17-76, to the Chief Counsel for Advocacy of the Small Business Administration.

Need for, and Objectives of, the Proposed Rules

6. In document DA 17-76, the Bureau seeks comment on whether the scope of application of the RUE Profile should be expanded beyond the interface between provider networks and user equipment employing ACE software, to apply more generally to the interface between provider networks and provider-supplied user equipment and software. Comment is sought on a variety of alternatives, including the alternative of leaving the rule as is.

Legal Basis

7. The proposed action is authorized under sections 1, 2, 4(i), 225, 251, 255, 303, 316, and 716 of the Communications Act of 1934, as amended, section 6 of the Wireless Communications and Public Safety Act of 1999, and section 106 of the CVAA; 47 U.S.C. 151, 152, 154(i), 225, 255, 303, 316, 615a-1, 615c, 617.

Listing of Small Entities to Which the Proposed Rules Will Apply

8. The proposals in document DA 17-76 will affect obligations of VRS providers, who are classified by the Census Bureau as “all other telecommunications.”

• All Other Telecommunications.

• VRS Providers, which are generally classified within the broad category of “All Other Telecommunications.”

Description of Projected Reporting, Recordkeeping, and Other Compliance Requirements

9. Document DA 17-76 does not include new or modified reporting, recordkeeping, and other compliance requirements, except for compliance with a potentially broader application of the RUE Profile technical standard, to apply more generally to the interface between a VRS provider and provider-supplied user equipment and software.

Steps Taken To Minimize Significant Economic Impact on Small Entities, and Significant Alternatives Considered

10. Regarding the possible broadening of the application of the RUE Profile, document DA 17-76 seeks comment on a variety of alternative approaches, including alternatives with minimal or no impact on small entities.

Federal Rules That May Duplicate, Overlap, or Conflict With the Commission's Proposals

11. None.

Ordering Clauses

Pursuant to sections 1, 2, 4(i), 4(j), 225 and 303(r) of the Communications Act of 1934, as amended, 47 U.S.C. 151, 152, 154(i), 154(j), 225, 303(r), and the authority delegated by the Commission in Structure and Practices of the Video Relay Service Program et al., Report and Order, published at 78 FR 40582, July 5, 2013, document DA 17-76 is adopted.

The Commission's Consumer and Governmental Affairs Bureau, Reference Information Center, shall send a copy of document DA 17-76, including the Initial Regulatory Flexibility Analysis to the Chief Counsel for Advocacy of the Small Business Administration.

Federal Communications Commission.
Karen Peltz Strauss,
Deputy Chief, Consumer and Governmental Affairs Bureau.

[FR Doc. 2017-08487 Filed 4-26-17; 8:45 am]

BILLING CODE 6712-01-P